DEPARTMENT OF COMMERCE

National Institute of Standards and Technology

National Telecommunications and Information Administration

International Trade Administration

Cybersecurity and Innovation in the Information Economy

AGENCY: National Institute of Standards and Technology, National Telecommunications and Information Administration, and International Trade Administration, U.S. Department of Commerce.

ACTION: Notice of public meeting.

SUMMARY: The National Institute of Standards and Technology (NIST), the National Telecommunications and Information Administration (NTIA), and the International Trade Administration (ITA), on behalf of the U.S. Department of Commerce (Department), will hold a public meeting on July 27, 2010, to discuss the relationship between cybersecurity in the commercial space and innovation in the Internet economy.

DATES: The meeting will be held on July 27, 2010, from 9 a.m. to 4:45 p.m., Eastern Daylight Time. Registration will begin at 8:30 a.m.

ADDRESSES: The meeting will be held in the Amphitheater of the Ronald Reagan Building and International Trade Center, 1300 Pennsylvania Avenue, NW., Washington, DC 20006. All major entrances to the building are accessible to people with disabilities.

FOR FURTHER INFORMATION CONTACT: For further information regarding the meeting, contact W. Curt Barker by e-mail at william.barker@nist.gov or by phone at (202) 482-0935.

SUPPLEMENTARY INFORMATION: Recognizing the vital importance of the Internet to U.S. economic growth and innovation, the Department has made it a top priority to ensure that the Internet remains a vehicle for these important purposes. The Department has assembled an Internet Policy Task Force (Task Force), comprised of Department officials, whose mission is to identify leading public policy and operational challenges in the Internet environment. The Task Force leverages expertise across many bureaus, including those responsible for domestic and international information and communications policy, international trade, cybersecurity standards and best practices, intellectual property, business advocacy and export control.

As part of the Task Force agenda, NIST, NTIA, and ITA are conducting a comprehensive review of cybersecurity and innovation in the Internet economy, with a particular emphasis on the security practices of those businesses that operate non-critical infrastructure. To facilitate this review, on July 27, 2010, NIST, NTIA, and ITA will hold a public meeting to discuss stakeholder views and to encourage public discussion of cybersecurity policy in the United States. The event will seek participation and comment from all interested stakeholders, including the commercial, academic, and civil society sectors, on the impact of current cybersecurity law and governmental policy, the common and emerging techniques used in successful cybersecurity strategies, and the relative roles of the private and public sectors with respect to improving cybersecurity in the commercial arena. The bureaus will explore the changing nature of threats and whether those changes suggest gaps in cybersecurity policy. Similarly, they invite discussion and comment on how the public sector can organize more clearly its roles. The review will also seek to develop a deeper understanding of the relationship of current cybersecurity policy to consumer welfare, job creation, international trade, and fundamental democratic values. The review is being coordinated with the Office of the Cybersecurity Coordinator, Executive Office of the President. As part of this review, the Task Force will shortly issue a notice of inquiry seeking public comments on key issues.

The agenda for the public meeting will be available at least one week prior to the meeting. The agenda will be available on the Internet Policy Task Force Web site, http://www.ntia.doc.gov/internetpolicytaskforce/ and the NIST's Web site at http://www.nist.gov, under Conferences and Events. Gary Locke, Secretary of Commerce, is scheduled to deliver keynote remarks. Also participating with remarks will be Howard Schmidt, White House Cyber Security Coordinator, Cameron Kerry, the Department of Commerce's General Counsel, Patrick Gallagher, Director of the National Institute of Standards and Technology, and Anna Gomez, the Deputy Assistant Secretary for Communications and Information and Deputy National Telecommunications and Information Administrator. Other U.S. Government officials will also participate, as will a number of well-regarded, non-government experts.

The meeting will be open to members of the public on a first-come, first-served basis. To pre-register for the meeting, please send a request to Teresa Vicente at teresa.vicente@nist.gov indicating your name, organizational affiliation, mailing address, telephone, and e-mail address. The meeting will be physically accessible to people with disabilities. Individuals requiring accommodation, such as sign language interpretation or other ancillary aids, should communicate their needs to Teresa Vicente at least five (5) days prior to the meeting. Attendees should arrive at least one-half hour prior to the start of the meeting and must present valid government-issued photo identification upon arrival. Persons who have pre-registered (and received confirmation) will have seating held until 15 minutes before the program begins. Members of the public will have an opportunity to ask questions at the meeting.

Dated: June 15, 2010.
Katharine B. Gebbie,
Director, Physics Laboratory, National Institute of Standards and Technology.
Lawrence E. Strickling,
Assistant Secretary of Commerce for Communications and Information, National Telecommunications and Information Administration.
Dated: June 22, 2010.
Michelle O'Neill,
Deputy Under Secretary of Commerce for International Trade, International Trade Administration.

[FR Doc. 2010-15589 Filed 6-25-10; 8:45 am]

BILLING CODE 3510-13-P